INTERNATIONAL TRADE COMMISSION

[Investigation No. 337-TA-1024]

Certain Integrated Circuits With Voltage Regulators and Products Containing Same; Notice of Commission Determination Not To Review an Initial Determination Terminating the Investigation for Good Cause; Termination of Investigation

AGENCY: U.S. International Trade Commission.

ACTION: Notice.

SUMMARY: Notice is hereby given that the U.S. International Trade Commission (“Commission”) has determined not to review an initial determination (“ID”) (Order No. 59) that grants a joint motion to terminate this investigation for good cause. This investigation is terminated.

FOR FURTHER INFORMATION CONTACT: Ron Traud, Office of the General Counsel, U.S. International Trade Commission, 500 E Street SW, Washington, DC 20436, telephone 202-205-3427. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server at https://www.usitc.gov. The public record for this investigation may be viewed on the Commission's electronic docket (“EDIS”) at https://edis.usitc.gov. Hearing-impaired persons are advised that information on this matter can be obtained by contacting the Commission's TDD terminal, telephone 202-205-1810.

SUPPLEMENTARY INFORMATION: On October 18, 2016, the Commission instituted this investigation based on a complaint filed by R2 Semiconductor, Inc. of Sunnyvale, California. 81 FR 71764 (Oct. 18, 2016). The complaint alleges violations of section 337 of the Tariff Act of 1930, as amended, 19 U.S.C. 1337 (“section 337”) based upon the importation into the United States, the sale for importation, or the sale within the United States after importation of certain integrated circuits with voltage regulators and products containing the same by reason of infringement of certain claims of U.S. Patent No. 8,233,250 (“the '250 patent”). Id. The Commission's notice of investigation named as respondents Intel Corporation of Santa Clara, California; Intel Ireland Ltd. of Leixlip, Ireland; Intel Products Vietnam Co., Ltd. of Ho Chi Minh City, Vietnam; Intel Israel 74 Ltd. of Haifa, Israel; Intel Malaysia Sdn. Berhad of Penang, Malaysia; Intel China, Ltd. of Beijing, China; Dell, Inc. of Round Rock, Texas; Dell Technologies Inc. of Round Rock, Texas; HP Inc. of Palo Alto, California; and Hewlett Packard Enterprise Co. of Palo Alto, California (collectively, “Respondents”). Id. The Office of Unfair Import Investigations (“OUII”) is participating in this investigation. Id.

On July 31, 2018, the Patent Trial and Appeal Board (“PTAB”) issued final written decisions in inter partes review proceedings, finding all asserted claims of the '250 patent to be invalid. On August 16, 2018, Respondents filed an unopposed motion to stay this investigation pending appellate review of those decisions by the Federal Circuit. On August 31, 2018, the presiding administrative law judge (“ALJ”) granted that motion. Order No. 55 (Aug. 31, 2018).

On December 23, 2019, R2 and Respondents filed a joint motion to terminate this investigation in its entirety for good cause in light of the Federal Circuit's November 13, 2019 decision affirming the PTAB's decision finding all asserted claims of the '250 patent unpatentable. OUII did not oppose the motion.

On January 10, 2020, the ALJ issued the subject ID (Order No. 59), which grants the motion. The ALJ found that the motion complies with Commission Rule 210.21(a) and that no extraordinary circumstances prohibit termination of the investigation. No petitions for review were filed.

The Commission has determined not to review the subject ID. This investigation is terminated.

The authority for the Commission's determination is contained in section 337 of the Tariff Act of 1930, as amended (19 U.S.C. 1337), and in part 210 of the Commission's Rules of Practice and Procedure (19 CFR part 210).

By order of the Commission.
Issued: January 31, 2020.
Lisa Barton,
Secretary to the Commission.

[FR Doc. 2020-02292 Filed 2-5-20; 8:45 am]

BILLING CODE 7020-02-P